DEPARTMENT OF TRANSPORTATION

Surface Transportation Board

[STB Finance Docket No. 33994]

Summit View, Inc.—Intracorporate Family Exemption—Merger of Pittsburgh Industrial Railroad, Inc. Into The Pittsburgh & Ohio River Railroad Company

Summit View, Inc. (Summit), a noncarrier holding company, and its wholly owned subsidiaries Pittsburgh Industrial Railroad, Inc. (PIRR),¹ a Delaware Corporation, and The Pittsburgh & Ohio River Railroad Company (POHC), have filed a notice of exemption to merge PIRR into POHC, with POHC as the surviving corporation. POHC will acquire the assets and assume all liabilities and obligations of PIRR.²

¹ See Summit View, Inc.—Acquisition of Control Exemption—Pittsburgh Industrial Railroad, Inc., STB Finance Docket No. 33978 (STB served Jan. 11, 2001).

² POHC is a non-operating railroad corporation formed under the laws of the State of Ohio. Once PIRR is merged into POHC, PIRR's separate corporate existence will cease.

The transaction was expected to be consummated on or shortly after January 31, 2001. The notice indicates that Summit, POHC, and all other carrier subsidiaries of Summit are organized and incorporated under the laws of the State of Ohio. Thus, the transaction will simplify Summit's tax compliance and will reduce administrative costs by eliminating the need to maintain corporate and legal representation in the State of Delaware.

The transaction involves the merger of companies within Summit's corporate family. The merger will not result in adverse changes in service levels, significant operational changes, or a change in the competitive balance with carriers operating outside the corporate family, the transaction qualifies for the class exemption at 49 CFR 1180.2(d)(3).

As a condition to the use of this exemption, any employees adversely affected by the transaction will be protected by the conditions set forth in New York Dock Ry.—Control—Brooklyn Eastern Dist., 360 I.C.C. 60, 84-90 (1979).

If the notice contains false or misleading information, the exemption is void ab initio. Petitions to revoke the exemption under 49 U.S.C. 10502(d) may be filed at any time. The filing of a petition to revoke will not automatically stay the transaction.

An original and 10 copies of all pleadings, referring to STB Finance Docket No. 33994, must be filed with the Surface Transportation Board, Office of the Secretary, Case Control Unit, 1925 K Street, NW., Washington, DC 20423-0001. In addition, one copy of each pleading must be served on Kelvin J. Dowd, Esq., Slover & Loftus, 1224 Seventeenth Street, NW., Washington, DC 20036.

Board decisions and notices are available on our website at “WWW.STB.DOT.GOV.”

Decided: February 13, 2001.
By the Board, David M. Konschnik, Director, Office of Proceedings.
Vernon A. Williams,
Secretary.

[FR Doc. 01-4147 Filed 2-20-01; 8:45 am]

BILLING CODE 4915-00-P